DEPARTMENT OF COMMERCE

Economic Development Administration

[140224172-4172-01]

Extension of Deadline for Applications for Investing in Manufacturing Communities Partnership Designation

AGENCY: Economic Development Administration, Commerce.

ACTION: Notice.

SUMMARY: The Economic Development Administration (EDA) is extending the application period for communities seeking to be designated as manufacturing communities (Manufacturing Community or Manufacturing Communities) through the Investing in Manufacturing Communities Partnership (IMCP). Manufacturing Communities will receive preference for a range of future Federal economic development funding and technical assistance offered by IMCP participating agencies. Some Manufacturing Communities, subject to the availability of funds, may receive financial assistance awards from IMCP participating agencies to assist in cultivating an environment for businesses to create well-paying manufacturing jobs in regions across the country. On December 10, 2013, EDA published a notice describing the IMCP and the application process. The original application period expires on March 14, 2014, and this extension is to ensure that all interested entities have an opportunity to apply to this program.

DATES: Applications must be received on or before 11:59 p.m. Eastern Time on April 14, 2014. Applications received after this deadline will not be reviewed or considered. Applicants are advised to carefully read the application and submission information provided in the Supplementary Information section of the notice published on December 10, 2013.

ADDRESSES: You may send applications, identified by EDA Docket No. 131121981-3981 by one of the following methods:

• Email: IMCP@eda.gov. Include “Proposals for designation as a Manufacturing Community” and Docket No. 131121981-3981 in the subject line of the message.

• Fax: (202) 482-2838, Attention: Office of Performance and National Programs. Please indicate “Proposals for designation as a Manufacturing Community” and Docket No. 131121981-3981 on the cover page.

• Mail: Economic Development Administration, Office of Performance and National Programs, U.S. Department of Commerce, 1401 Constitution Avenue NW., Suite 71030, Washington, DC 20230. Please indicate “Proposals for designation as a Manufacturing Community” and Docket No. 131121981-3981 on the envelope.

FOR FURTHER INFORMATION CONTACT: Ryan Hedgepeth, U.S. Department of Commerce, Economic Development Administration, 1401 Constitution Avenue NW., Suite 78006, Washington, DC 20230 or via email at rhedgepeth@eda.gov.

SUPPLEMENTARY INFORMATION: On December 10, 2013, EDA published a notice describing the IMCP (78 FR 74106), as well as the application criteria and process.

The IMCP is a new government-wide initiative that will help communities cultivate an environment for businesses to create well-paying manufacturing jobs in regions across the country and thereby accelerate the resurgence of manufacturing. The IMCP is designed to reward communities that demonstrate best practices in attracting and expanding manufacturing by bringing together key local stakeholders and using long-term planning that integrates targeted investments across a community's industrial ecosystem to create broad-based prosperity. A well-designed public investment is a key part of developing a self-sustaining ecosystem that attracts private investment from new and existing manufacturers and leads to broad-based prosperity.

Designation as an IMCP Manufacturing Community will be given to communities with the best strategies for designing and making such investments in public goods. EDA will designate up to 12 communities as Manufacturing Communities through the IMCP.

See the FRN (78 FR 74106) for further information on how to submit an application and how EDA will handle applications received.

Extension of Application Period

EDA has determined that a 30-day extension of the application period is necessary to provide the public adequate time to submit an application. Accordingly, the application period for the competition is extended through April 14, 2014.

Matthew S. Erskine,
Deputy Assistant Secretary for Economic Development.

[FR Doc. 2014-04631 Filed 2-28-14; 8:45 am]

BILLING CODE 3510-WH-P